DEPARTMENT OF HEALTH AND HUMAN SERVICES

Administration for Children and Families

Proposed Information Collection Activity; Legal Services for Unaccompanied Alien Children (New Collection)

AGENCY: Office of Refugee Resettlement, Administration for Children and Families, Department of Health and Human Services.

ACTION: Request for Public Comment.

SUMMARY: The Office of Refugee Resettlement (ORR), Administration for Children and Families (ACF), U.S. Department of Health and Human Services (HHS), is inviting public comment on the proposed collection. The request consists of several forms that allow the Unaccompanied Alien Children (UAC) Program to provide legal services to UAC.

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description

The components of this information request include:

1. Legal Service Provider List for UAC in ORR Care (Form LRG-5/5s): This instrument is provided to UAC by their case manager. The instrument contains a list of legal services providers available to UAC. UAC initial and sign the instrument upon admission and release of ORR custody to acknowledge receipt of documents contained in ORR's Legal Resource Guide. This form was previously approved under OMB Number 0970-0498 and is being reinstated without changes under this new OMB number.

2. Request for a Flores Bond Hearing (Form LRG-7/7s): This instrument is provided to UAC placed by their case manager. The instrument is always provided to UAC placed in a restrictive setting (secure, staff secure, and residential treatment center facilities) and to UAC placed in other types of facilities upon request. UAC may use this instrument to request or withdraw a request for a Flores bond hearing.

3. Motion to Request a Bond Hearing—Secure or Staff Secure Custody (Form LRG-8A): This instrument is completed by case managers upon receipt of a Request for a Flores Bond Hearing for a UAC in secure or staff secure custody and provided to ORR. ORR files the motion with the local immigration court.

4. Motion to Request a Bond Hearing—Non-Secure Custody (Form LRG-8B): This instrument is completed by case managers upon receipt of a Request for a Flores Bond Hearing for a UAC placed in a non-secure program (e.g., shelter, foster care) and provided to ORR. ORR files the motion with the local immigration court.

5. Request for Specific Consent to Juvenile Court Jurisdiction (Form L-1): This instrument is used by legal service providers and attorneys of record to request specific consent from ORR in cases where they are seeking Special Immigrant Juvenile legal relief for their UAC client and are also seeking to invoke the jurisdiction of a state court to determine or alter the UAC's custody status or placement. This form is currently approved under OMB Number 0970-0385, but has been revised and is being moved under this new OMB number consisting of related forms.

6. Specific Consent Request Case Summary (Form L-2): This instrument is completed by ORR Federal Field Specialists (FFS) when ORR receives a request for specific consent. FFS provide case information that will allow the ORR Director to make an informed decision on whether to grant specific consent.

7. Notice of Attorney Representation (Form L-3): This instrument is completed by attorneys of record for UAC to notify ORR of the purpose of legal representation and the representation timeframe. ORR uses this instrument to ensure that case updates are provided to attorneys of record. This instrument may also be used by attorneys of record when requesting a copy of their client's case file.

8. UAC Legal Information (Form L-4): This instrument is used by case managers to document, as applicable, referrals to the Office of Trafficking in Persons; meetings between the UAC and their legal service provider or attorney of record; the provision of ORR's Legal Resource Guide to the UAC; information about the UAC's legal service provider or attorney of record; immigration and administrative hearings; and provision of the Notice of Placement in a Restrictive Setting to the UAC. The instrument also includes an area to upload legal documents.

9. Legal Service Provider Record (Form L-6): This instrument is used by case managers to create a record containing certain information and documents that ORR makes accessible to ORR-funded legal service providers without requiring a formal records request.

10. Motion for Change of Venue (Form L-7): This instrument is used by case managers to file a motion for change of venue when a UAC is transferred or discharged to a new immigration court jurisdiction.

11. Post Legal Status Plan (Form L-8): This instrument is used by case managers to create and obtain Federal Field Specialist Supervisor approval for a plan for UAC expected to obtain legal status, at which time the UAC must be released from ORR custody.

Respondents: ORR grantee and contractor staff; UAC; parents/legal guardians of UAC; attorneys of record; and legal service providers.

Annual Burden Estimates
Instrument | Annual total number of respondents | Annual total number of responses per respondent | Average burden minutes per response | Annual total burden hours
Legal Service Provider List for UAC in ORR Care (Form LRG-5/5s) | 216 | 556.0 | 15 | 30,024
Request for a Flores Bond Hearing (Form LRG-7/7s) | 216 | 0.2 | 10 | 7
Motion to Request a Bond Hearing—Secure or Staff Secure Custody (Form LRG-8A) | 8 | 3.0 | 10 | 4
Motion to Request a Bond Hearing—Non-Secure Custody (Form LRG-8B) | 208 | 0.1 | 10 | 3
Request for Specific Consent to Juvenile Court Jurisdiction (Form L-1) | 40 | 1.0 | 15 | 10
Specific Consent Request Case Summary (Form L-2) | 216 | 0.2 | 20 | 14
Notice of Attorney Representation (Form L-3) | 13,000 | 1.0 | 15 | 3,250
UAC Legal Information (Form L-4) | 216 | 241.0 | 60 | 52,056
Legal Service Provider Record (Form L-6) | 216 | 241.0 | 5 | 4,338
Change of Venue (Form L-7) | 216 | 208.0 | 10 | 7,488
Post Legal Status Plan (Form L-8) | 216 | 24.0 | 15 | 1,296
Estimated Annual Burden Hours Total: |  |  |  | 98,490

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996)

Mary B. Jones,
ACF/OPRE Certifying Officer.

[FR Doc. 2021-03261 Filed 2-17-21; 8:45 am]

BILLING CODE 4184-45-P